DEPARTMENT OF HEALTH AND HUMAN SERVICES

National Institutes of Health

Center for Scientific Review; Amended Notice of Meeting

Notice is hereby given of a change in the meeting of the Center for Scientific Review Special Emphasis Panel, July 10, 2002, 8:30 a.m. to July 10, 2002, 5 p.m., Monarch Hotel, 2400 M Street, NW., Washington, DC 20037 which was published in the Federal Register on June 18, 2002, 67 FR 41437-41439.

The meeting has been changed to August 2, 2002. The time and location remain the same. The meeting is closed to the public.

Dated: July 3, 2002.
LaVerne Y. Stringfield,
Director, Office of Federal Advisory Committee Policy.

[FR Doc. 02-17656 Filed 7-12-02; 8:45 am]

BILLING CODE 4140-01-M